DEPARTMENT OF HEALTH AND HUMAN SERVICES

Centers for Disease Control and Prevention

[30Day-16-15BCU]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Direct written comments and/or suggestions regarding the items contained in this notice to the Attention: CDC Desk Officer, Office of Management and Budget, Washington, DC 20503 or by fax to (202) 395-5806. Written comments should be received within 30 days of this notice.

Proposed Project

National Ambulatory Medical Care Survey Supplement on Culturally and Linguistically Appropriate Services (NAMCS CLAS)—New—National Center for Health Statistics (NCHS), Centers for Disease Control and Prevention (CDC).

Background and Brief Description

As the population of the United States becomes increasingly diverse, it is important that health care providers deliver culturally and linguistically competent services. Culturally and linguistically appropriate services (CLAS) are respectful of and responsive to individual cultural health beliefs and practices, preferred languages, health literacy levels, and communication needs. The National CLAS Standards in Health and Health Care were established in 2000 by the Office of Minority Health (OMH), Department of Health and Human Services (DHHS) to advance health equity, improve quality, and eliminate health care disparities. In 2013, OMH published the Enhanced Standards for CLAS in Health and Health Care to revise the National CLAS Standards in order to reflect advancements made since 2000, expand their scope and improve their clarity to ensure better understanding and implementation. Although there has been increased awareness and efforts to train culturally and linguistically competent health care providers, there has not been a systematic evaluation of the level of adoption or implementation of the National CLAS Standards among physicians. Due to the limited understanding of how the Standards are adopted and implemented, it is difficult to know what goals have been achieved and which need more work.

OMH came to NCHS' Division of Health Care Statistics with this project because of our expertise collecting data from physicians in the National Ambulatory Medical Care Survey (NAMCS). The NAMCS CLAS project meets two of the Division's missions: conduct multidisciplinary research directed towards development of new scientific knowledge on the provision, use, quality, and appropriateness of ambulatory care; and develop and sustain collaborative partnerships internally within DHHS and externally with public, private, domestic and international entities on health care statistics programs. The purpose of the NAMCS CLAS survey is to describe the awareness, training, adoption, and implementation of the Enhanced Standards for CLAS in Health and Health Care among office-based physicians. The information will be collected directly from physician respondents through an online survey, paper form or telephone administration. Telephone interviews will be the follow-up alternative for non-respondents. Information that will be collected includes demographic information, specialty, number of years the physician has provided direct patient care, training related to cultural competency and the National CLAS Standards, provision of CLAS to patients, organizational characteristics that aided or hindered provision of CLAS, and awareness of the National CLAS Standards.

The target universe of the NAMCS CLAS includes non-federally employed physicians who were classified by the American Medical Association (AMA) or the American Osteopathic Association (AOA) as providing “office-based, patient care.” The target universe excludes physicians in the specialties of anesthesiology, radiology, and pathology. The survey sample of 2,400 physicians will be used as the basis to provide regional and national estimates. Participation in the NAMCS CLAS is voluntary. There will be no financial incentive to participate. A one-year approval will be requested.

There is no cost to the respondents other than their time. The total estimated annual burden hours are 676.

Estimated Annualized Burden Hours

Type of respondents | Form name | Number of respondents | Number of responses per respondent | Average burden per response (in hours)
Office-based physicians | NAMCS CLAS questionnaire | 2,400 | 1 | 15/60
Office-based physicians (non-respondents) | NAMCS CLAS Phone Script | 912 | 1 | 5/60

Leroy A. Richardson,
Chief, Information Collection Review Office, Office of Scientific Integrity, Office of the Associate Director for Science, Office of the Director, Centers for Disease Control and Prevention.

[FR Doc. 2016-12147 Filed 5-23-16; 8:45 am]

BILLING CODE 4163-18-P